DEPARTMENT OF HEALTH AND HUMAN SERVICES

National Institutes of Health

Privacy Act of 1974; System of Records

AGENCY: National Institutes of Health (NIH), Department of Health and Human Services.

ACTION: Rescindment of a system of records notice.

SUMMARY: In accordance with the requirements of the Privacy Act of 1974, as amended, the Department of Health and Human Services (HHS), through the National Institutes of Health (NIH), is rescinding a system of records titled “Administration: Senior Staff, HHS/NIH/NIAID,” system number 09-25-0087. The records are no longer needed for agency business, so are no longer retrieved by names or other personal identifiers. Because of this, the records no longer qualify as a Privacy Act system of records, and it is appropriate to rescind the system of records.

DATES: In accordance with 5 U.S.C. 552a(e)(4), this notice is applicable upon publication.

ADDRESSES: The public may submit written comments on this notice, by mail or email, to Dustin Close, Office of Management Assessment, National Institutes of Health, 6705 Rockledge Drive, Suite 601, Bethesda, MD 20892, or email privacy@mail.nih.gov.

FOR FURTHER INFORMATION CONTACT: General questions about the system of records may be submitted to Dustin Close, Office of Management Assessment, National Institutes of Health, 6705 Rockledge Drive, Suite 601, Bethesda, MD 20892, telephone 301-496-4606, email privacy@mail.nih.gov.

SUPPLEMENTARY INFORMATION: HHS/NIH is rescinding a system of records, titled “Administration: Senior Staff, HHS/NIH/NIAID,” system number 09-25-0087. The records consist of paper files containing biographical information about key professional employees and consultants that was used for public announcements and press releases about National Institute of Allergy and Infectious Diseases (NIAID) research. The records have not been used since 2013 and are no longer needed for agency business, so are no longer retrieved by personal identifier. For these reasons, the records no longer qualify as a Privacy Act system of records. Because they have historical value, they will be transferred to the Office of NIH History and Stetten Museum for continued preservation, as authorized by National Archives and Records Administration-approved records disposition schedule 11-203 (disposition authority DAA-GRS-2016-0005-0003), after removing any sensitive information.

For the foregoing reasons, the below system of records is hereby rescinded:

SYSTEM NAME AND NUMBER:

Administration: Senior Staff, HHS/NIH/NIAID, 09-25-0087.

HISTORY:

67 FR 60742 (Sept. 26, 2002), 83 FR 6591 (Feb. 14, 2018).

Alfred C. Johnson,
Deputy Director for Management, National Institutes of Health.

[FR Doc. 2024-03757 Filed 2-22-24; 8:45 am]

BILLING CODE 4140-01-P